DEPARTMENT OF JUSTICE

Notice of Lodging of Settlement Agreement and Consent Decree Under the Comprehensive Environmental Response, Compensation and Liability Act

Under 28 CFR 50.7 and pursuant to section 122(d)(2) of the Comprehensive Environmental Response, Compensation and Liability Act, 42 U.S.C.. 9622(d)(2), notice is hereby given that on October 10, 2001, a proposed Settlement Agreement and Consent Decree (“Decree”) in United States and State of Colorado v. Robert Friedland, Civil No. 96-N-1213, was lodged with the United States District Court for the District of Colorado. The United States and State of Colorado filed this action pursuant to the Comprehensive Environmental Response, Compensation and Liability Act for recovery of costs incurred by the United States and State of Colorado in responding to releases of hazardous substances at the Summitville Mine Superfund Site near Del Norte, Colorado.

Pursuant to the proposed Decree, the United States and State of Colorado will have an allowed general unsecured claim jointly against defendant Industrial Constructors Corp. and also against Washington Group International, Inc., and Washington Contractors Group, Inc. in the amount of $20,288,080 in the Bankruptcy Case captioned In re: Washington Group International, Inc. Case No. BK-N-01-31627 (GWZ) (Bankr. D. Nev.). This general unsecured claim will resolve the claims of the United States and the State of Colorado against defendant Industrial Constructors Corp. in United States and State of Colorado v. Robert Friedland, Civil No. 96-N-1213 (D. Colo.) and also will resolve the claims of the State of Colorado against defendants Washington Group International, Inc., Washington Contractors Group, Inc., and Dennis Washington in United States v. Sunoco, Inc., et al., Civil No. 01-N-1 (D. Colo.).

The Department of Justice will receive for a period of thirty (30) days from the date of this publication comments relating to the Decree. Comments should be addressed to the Assistant Attorney General, Environment and Natural Resources Division, P.O. Box 7611, U.S. Department of Justice, Washington, DC 20044-7611, and should refer to, United States and State of Colorado v. Robert Friedland, Civil No. 96-N-1213, and D.J. Ref. #90-11-3-1133B.

The Decree may be examined at the office of the U.S. Department of Justice, Environmental Enforcement Section, 999 18th Street, Suite 945, North Tower, Denver, Colorado; at U.S. EPA Region 8, Office of Regional Counsel, 999 18th Street, Suite 300, South Tower, Denver Colorado. A copy of the Decree may also be obtained by mail from the Consent Decree Library, P.O. Box 7611, U.S. Department of Justice, Washington, DC 20044-7611. In requesting a copy, please enclose a check in the amount of $5.75 (25 cents per page reproduction cost) payable to the Consent Decree Library.

Robert D. Brook,
Assistant Chief, Environmental Enforcement Section, Environment and Natural Resources Division.

[FR Doc. 01-27608 Filed 11-1-01; 8:45 am]

BILLING CODE 4410-15-M